DEPARTMENT OF ENERGY

Federal Energy Regulatory Commission

Sunshine Act Meeting

Federal Register Citation of Previous Announcement: November 6, 2000, 65 FR 66535.

Previously Announced Time and Date of Meeting: November 8, 2000, 11:00 a.m.

Change in the Meeting: The time for the Commission meeting scheduled for November 8, 2000, has been changed to 11:00 a.m.

David P. Boergers,
Secretary.

[FR Doc. 00-29009 Filed 11-7-00; 3:53 pm]

BILLING CODE 6717-01-M